GENERAL SERVICES ADMINISTRATION

[Notice-FAS-2014-02; Docket: 2014-0002; Sequence: 39]

Notice of Public Meeting for the Supplemental Draft Environmental Impact Statement for the U.S. Department of State Foreign Affairs Security Training Center in Nottoway County, Virginia

AGENCY: U.S. General Services Administration (GSA).

ACTION: Meeting Notice.

SUMMARY: Pursuant to the Council on Environmental Quality regulations implementing the procedural provisions of the National Environmental Policy Act, the U.S. General Services Administration (GSA) has prepared and filed with the U.S. Environmental Protection Agency (EPA) a Supplement to the 2012 Draft Environmental Impact Statement (EIS) for the U.S. Department of State (DOS), Bureau of Diplomatic Security, Foreign Affairs Security Training Center (FASTC). GSA is the lead agency; cooperating agencies are DOS, U.S. Army Corps of Engineers (ACE), EPA, and National Guard Bureau (NGB). The Supplemental Draft EIS was prepared to evaluate the environmental impacts of site acquisition and development of FASTC at the Virginia Army National Guard Maneuver Training Center (VA ANG MTC) at Fort Pickett and Nottoway County's Local Redevelopment Authority area in Nottoway County, Virginia.

DATES: Comment date: The public may submit comments on the Supplemental Draft EIS during a 45-day public review and comment period beginning January 9, 2015 with publication of this notice and ending on February 23, 2015. Instructions for submitting comments may be found under the heading SUPPLEMENTARY INFORMATION in this notice.

Public Meeting: A public information meeting is scheduled for January 26, 2015, between 7:00 p.m. and 8:00 p.m., Eastern Standard Time, in the Auditorium at the Blackstone Conference and Retreat Center located at 707 Fourth Street, Blackstone VA 23824.

ADDRESSES: Send written comments by email to FASTC.info@gsa.gov, or U.S. Postal Service to: Ms. Abigail Low, GSA Project Manager, 20 N. 8th Street, Philadelphia, PA 19107.

FOR FURTHER INFORMATION CONTACT: Abigail Low, GSA Project Manager; 20 N. 8th Street, Philadelphia, PA 19107 215-446-4815, or email at FASTC.info@gsa.gov.

SUPPLEMENTARY INFORMATION: Background: The purpose of the proposed FASTC in Nottoway County is to consolidate existing dispersed hard skills training functions into a single suitable location to improve training efficiency and enhance training operations. The proposed FASTC is needed to meet the increased demand for well-trained security personnel. A Notice of Intent to prepare a Supplemental Draft EIS was published in the Federal Register at 79 FR 52336 on September 3, 2014. A public scoping period and public scoping meeting for the proposed action were held in October 2011 in relation to the 2012 Draft EIS. Additionally, the public was invited to submit comments concerning the proposal for 30 days from publication of the September 3, 2014 Notice of Intent to prepare a Supplemental Draft EIS.

The alternatives fully evaluated in the Supplemental Draft EIS include the No Action Alternative and Build Alternative 3. Build Alternative 3 was developed based on the 2014 Master Plan Update that incorporates the adjustments in the FASTC program. The Preferred Alternative is Build Alternative 3.

The Supplemental Draft EIS incorporates by reference and builds upon the analyses presented in the 2012 Draft EIS and documents the Section 106 process under the National Historic Preservation Act of 1966, as amended (36 CFR part 800). The Supplemental Draft EIS addresses substantial changes to the proposed action that are relevant to environmental concerns and assesses any new circumstances or information relevant to potential environmental impacts.

In early 2013, all efforts on the Final EIS and work on the proposed site at Fort Pickett and Nottoway County's LRA area were put on hold pending additional due diligence and reviews at an existing federal training site in Georgia. As part of this due diligence effort, DOS conducted site visits to the Federal Law Enforcement Training Center (FLETC) in Glynco, Georgia. During this time period, DOS also assessed the scope and size of the FASTC project and determined a smaller platform was more fiscally prudent.

In April 2014, the earlier DOS selection of the proposed site for FASTC at Fort Pickett and Nottoway County was reaffirmed. Planning for the site resumed based on a reduced scope of requirements compared with the 2012 plan. The project would now proceed as a hard skills only facility, which consists of driving tracks, firing ranges, a mock urban environment, explosives ranges, and associated classrooms and administrative functions. Several hard skills training venues have been consolidated. Soft skills training, such as simulation labs, and life support functions, such as dormitories and dining facilities have been eliminated from the program. More information on the proposed FASTC program is available at http://www.state.gov/recovery/fastc.

The Supplemental Draft EIS has been distributed to various federal, state, and local agencies. The Supplemental Draft EIS is available for review on the project Web site http://www.state.gov/recovery/fastc. A printed copy of the Supplemental Draft EIS is available for viewing at the following libraries:

• Nottoway County Library—Louis Spencer Epes Memorial Library, 415 South Main St., Blackstone, VA

• Amelia County—James L. Hamner Public Library, 16351 Dunn Street, Amelia, VA

• Brunswick County—Brunswick County Library, 133 W. Hicks Street, Lawrenceville, VA

• Dinwiddie County—Dinwiddie Library, 14103 Boydton Plank Road, Dinwiddie, VA

• Lunenburg County—Ripberger Library, 117 South Broad St., Kenbridge, VA

• Prince Edward County—Farmville—Prince Edward Community Library, 1303 West 3rd Street, Farmville, VA

• Chesterfield County—Central Library, 9501 Lori Road, Chesterfield, VA

• Mecklenburg County—Southside Regional Library, 316 Washington Street, Boydton, VA

Federal, state, and local agencies, and other interested parties, are invited and encouraged to be present or represented at the public meeting on January 26, 2015. All formal comments will become part of the public record and substantive comments will be responded to in the Final EIS.

Public Comments: Comments on the Supplemental Draft EIS can be submitted three ways: (1) Submit comments via the FASTC email address: FASTC.info@gsa.gov, (2) provide written comments during the public meeting, or (3) mail a comment form or letter to: Ms. Abigail Low, GSA Project Manager, 20 N. 8th Street, Philadelphia, PA 19107. Written comments postmarked by February 23, 2015 will become part of the official public record.

Public Meeting: An informational presentation will be followed by an informal question and answer session. Informational posters will be on display, and representatives from GSA and DOS will be available to explain the proposed project, answer questions, and receive comments from the public.

Comment forms will be available for the public to provide formal written comments.

Dated: December 24, 2014.
Myles Vaughan,
NEPA Program Manager, Facilities Management & Services Programs Division, U.S. GSA, Mid-Atlantic Region.

[FR Doc. 2014-30791 Filed 1-8-15; 8:45 am]

BILLING CODE 6820-89-P